DEPARTMENT OF VETERANS AFFAIRS

[OMB Control No. 2900—NEW]

Agency Information Collection Activity: Social Responsibility Survey

AGENCY: Office of Small and Disadvantaged Business Utilization, Department of Veterans Affairs.

ACTION: Notice.

SUMMARY: Office of Small and Disadvantaged Business Utilization (OSDBU), Department of Veterans Affairs (VA), is announcing an opportunity for public comment on the proposed collection of certain information by the agency. Under the Paperwork Reduction Act (PRA) of 1995, Federal agencies are required to publish notice in the Federal Register concerning each proposed collection of information, including each proposed reinstatement of a currently approved collection, and allow 60 days for public comment in response to the notice.

DATES: Written comments and recommendations on the proposed collection of information should be received on or before July 23, 2018.

ADDRESSES: Submit written comments on the collection of information through www.Regulations.gov; or Milagros Ortiz (00SB), Department of Veterans Affairs, 810 Vermont Avenue NW, Washington, DC 20420 or email: Milagros.Ortiz@va.gov). Please refer to “OMB Control No. 2900—NEW” in any correspondence. During the comment period, comments may be viewed online through the Federal Docket Management System (FDMS) at www.Regulations.gov.

FOR FURTHER INFORMATION CONTACT: Milagros Ortiz at (202) 461-4279 or FAX (202) 461-4301.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OSDBU invites comments on: (1) Whether the proposed collection of information is necessary for the proper performance of OSDBU's functions, including whether the information will have practical utility; (2) the accuracy of OSDBU's estimate of the burden of the proposed collection of information; (3) ways to enhance the quality, utility, and clarity of the information to be collected; and (4) ways to minimize the burden of the collection of information on respondents, including through the use of automated collection techniques or the use of other forms of information technology.

Authority: Pub. L. 104-13; 44 U.S.C. 3501-3521.

Title: Social Responsibility Survey.

OMB Control Number: 2900—NEW.

Type of Review: New collection.

Abstract: OSDBU intends to collect information about Veteran suicide and homelessness programs from service-disabled Veteran-owned small businesses (SDVOSBs) and Veteran-owned small businesses (VOSBs). The prevention of Veteran suicides is one of VA Secretary's five strategic priorities. OSDBU's objective is to help VA reach this priority and reduce Veteran homelessness through the support and information to be provided by SDVOSBs and VOSBs.

Affected Public: Business or other for-profit.

Estimated Annual Burden: 1,400 hours.

Estimated Average Burden per Respondent: 7 minutes.

Frequency of Response: Once.

Estimated Number of Respondents: 12,000.

By direction of the Secretary.
Cynthia D. Harvey-Pryor,
Department Clearance Officer, Office of Privacy, Quality and Risk, Department of Veterans Affairs.

[FR Doc. 2018-10847 Filed 5-21-18; 8:45 am]

BILLING CODE 8320-01-P